DEPARTMENT OF COMMERCE

Foreign-Trade Zones Board

[Docket 07-2011]

Foreign-Trade Zone 124—Gramercy, LA; Application for Subzone; Halliburton Energy Services, Inc. (Barite Milling); Larose, LA

An application has been submitted to the Foreign-Trade Zones Board (the Board) by the Port of South Louisiana, grantee of FTZ 124, requesting special-purpose subzone status for the barite manufacturing facility of Halliburton Energy Services, Inc. (Halliburton), located in Larose, Louisiana. The application was submitted pursuant to the provisions of the Foreign-Trade Zones Act, as amended (19 U.S.C. 81a-81u), and the regulations of the Board (15 CFR part 400). It was formally filed on January 18, 2011.

The Halliburton facility (13 employees, 12.2 acres, producing up to 540,000 tons of ground barite per year) is located at 1699 Highway 24, Larose, LA. The facility is used for the milling (heating grinding, crushing) of raw barite. The only component sourced from abroad (representing 75% of the value of the finished product) is raw barite (duty rate of $1.25 per metric ton).

FTZ procedures could exempt Halliburton from customs duty payments on the foreign components used in export production. The company anticipates that less than one percent of the plant's shipments will be exported. On its domestic sales, Halliburton would be able to choose the duty rate during customs entry procedures that applies to the finished product (duty-free) for the foreign input noted above. FTZ designation would further allow Halliburton to realize logistical benefits through the use of weekly customs entry procedures. Customs duties also could possibly be deferred or reduced on foreign status production equipment. The request indicates that the savings from FTZ procedures would help improve the plant's international competitiveness.

In accordance with the Board's regulations, Christopher Kemp of the FTZ Staff is designated examiner to evaluate and analyze the facts and information presented in the application and case record and to report findings and recommendations to the Board.

Public comment is invited from interested parties. Submissions (original and 3 copies) shall be addressed to the Board's Executive Secretary at the address below. The closing period for their receipt is March 28, 2011. Rebuttal comments in response to material submitted during the foregoing period may be submitted during the subsequent 15-day period to April 11, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Christopher Kemp at Christopher.Kemp@trade.gov or (202) 482-0862.

Dated: January 18, 2011.
Andrew McGilvray,
Executive Secretary.

[FR Doc. 2011-1390 Filed 1-24-11; 8:45 am]

BILLING CODE 3510-DS-P